DEPARTMENT OF HEALTH AND HUMAN SERVICES

National Institutes of Health

National Institute on Alcohol Abuse and Alcoholism; Amended Notice of Meeting

Notice is hereby given of a change in the meeting of the National Institute on Alcohol Abuse and Alcoholism Special Emphasis Panel, March 28, 2012, 4 p.m. to March 29, 2012, 8 p.m., Legacy Hotel and Meeting Center, 1775 Rockville Pike, Rockville, MD, 20852 which was published in the Federal Register on January 17, 2012, 77 FR 2304.

This meeting will now be held at 5635 Fishers Lane, Rockville MD 20852. The meeting is closed to the public.

Dated: March 1, 2012.
Jennifer S. Spaeth,
Director, Office of Federal Advisory Committee Policy

[FR Doc. 2012-5683 Filed 3-7-12; 8:45 am]

BILLING CODE 4140-01-P